NATIONAL AERONAUTICS AND SPACE ADMINISTRATION

[Notice (08-072)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: October 9, 2008.

FOR FURTHER INFORMATION CONTACT: Mark W. Homer, Patent Counsel, NASA Management Office—JPL, 4800 Oak Grove Drive, Mail Stop 180-200, Pasadena, CA 91109; telephone (818) 354-7770.

NASA Case No. DRC-008-001: Improved, Real-time, Interactive Sonic Boom Display;

NASA Case No. NPO-45219-1: Hybrid Multifoil Aerogel Thermal Insulation and Method;

NASA Case No. NPO-45053-1: Method of Fabricating a Whispering Gallery Mode Resonator;

NASA Case No. NPO-42884-1: Mirror Support.

Dated: October 3, 2008.
Michael C. Wholley,
General Counsel.

[FR Doc. E8-24060 Filed 10-8-08; 8:45 am]

BILLING CODE 7510-13-P